DEPARTMENT OF THE TREASURY

Bureau of the Fiscal Service

Application and Renewal Fees Imposed on Surety Companies and Reinsuring Companies; Increase in Fees Imposed; Correction

AGENCY: Bureau of the Fiscal Service, Treasury.

ACTION: Notice of fees imposed on surety companies and reinsuring companies; Correction.

SUMMARY: The Department of the Treasury, Bureau of the Fiscal Service, published a document in the Federal Register of December 2, 2024, adding renewal fees for Complementary and Alien Reinsurers as well as Admitted Reinsurer—Reinsurance Market companies and increasing the existing fees it imposes on and collects from surety companies and reinsuring companies, effective January 1, 2025. The document contained typographical errors effecting the dollar values.

FOR FURTHER INFORMATION CONTACT: Melvin Saunders, at (304) 480-5108 or melvin.saunders@fiscal.treasury.gov; or Bobbi McDonald, at (304) 480-7098 or bobbi.mcdonald@fiscal.treasury.gov.

SUPPLEMENTARY INFORMATION: In the Federal Register of December 2, 2024, in FR Doc. 2024-28231, on page 95911, in “The new fee rate schedule” section should read as follows:

(1) Examination of a company's application for a Certificate of Authority as an acceptable surety or as an acceptable reinsuring company on Federal bonds: $13,600.

* * * * *

(3) Examination of a company's application for recognition as an Admitted Reinsurer: $5,000.

* * * * *

(6) Examination of a company's application for recognition as an Alien Reinsurer: $5,000.

* * * * *

(8) Examination of a company's application for recognition as a Complementary Reinsurer: $5,000.

* * * * *

Dated: December 4, 2024.
Lela Anderson,
Attorney-Advisor.

[FR Doc. 2024-28806 Filed 12-6-24; 8:45 am]

BILLING CODE 4810-AS-P